DEPARTMENT OF LABOR

Employment and Training Administration

[TA-W-80,158; TA-W-80,158A]

Amended Certification Regarding Eligibility To Apply for Worker Adjustment Assistance and Alternative Trade Adjustment Assistance; FLEXTRONICS International USA, INC.,FLEXMEDICAL Division, Including On-Site Leased Workers From AEROTEK Commerical Staffing, San Diego, CA; FLEXTRONICS International USA, Inc., Infrastructure Division, Foothill Ranch, CA

In accordance with Section 223 of the Trade Act of 1974 (19 U.S.C. 2273), and Section 246 of the Trade Act of 1974 (26 U.S.C. 2813), as amended, the Department of Labor (Department) issued a certification of eligibility to apply for Trade Adjustment Assistance (TAA) and Alternative Trade Adjustment Assistance (ATAA) on July 29, 2011, applicable to former workers of Flextronics International USA, Inc., FlexMedical Division, including on-site leased workers from Aerotek Commercial Staffing, San Diego, California (subject firm). The Department's Notice was published in the Federal Register on August 18, 2011 (76 FR 51433).

Workers at Flextronics International USA, Inc., FlexMedical Division, San Diego, California, are engaged in activity related to the production of disposable medical devices.

New information provided by Flextronics International USA, Inc. revealed that workers of the Infrastructure Division, Foothill Ranch, California location (TA-W-80,158) provided procurement support services for the production of disposable medical devices at the FlexMedical Division, San Diego, California location (TA-W-80,158). Both locations experienced worker separations due to a shift in production of disposable medical devices (or like or directly competitive articles) by Flextronics International USA, Inc. to Mexico.

In accordance with Section 246 the Trade Act of 1974, as amended (“Act”), 26 U.S.C. 2813, the Department herein presents the results of its investigation regarding certification of eligibility to apply for ATAA for older workers, applicable to workers of Flextronics International USA, Inc., Infrastructure Division, Foothill Ranch, California (TA-W-80,158A)

The group eligibility requirements for workers of a firm under Section 246 (a)(3)(A)(ii) of the Trade Act are satisfied if the following criteria are met:

(I) Whether a significant number of workers in the workers' firm are 50 years of age or older;

(II) Whether the workers in the workers' firm possess skills that are not easily transferable; and

(III) The competitive conditions within the workers' industry (i.e., conditions within the industry are adverse).

The Department has determined that criterion (I) has not been met for the workers covered by TA-W-80,158A.

A significant number of workers at Flextronics International USA, Inc., Infrastructure Division, Foothill Ranch, California is not 50 years of age or older.

Based on these findings, the Department is amending the TAA certification to include workers of the Infrastructure Division of Flextronics International USA, Inc., Foothill Ranch, California (TA-W-80,158A). The certification does not include a certification of eligibility to apply for ATAA, applicable to workers covered by TA-W-80,158A. The worker group at the Foothill Ranch, California facility does not include on-site leased workers from temporary agencies.

The amended notice applicable to TA-W-80,158 is hereby issued as follows:

All workers of Flextronics International USA, Inc., FlexMedical Division, including on-site leased workers from Aerotek Commercial Staffing, San Diego, California (TA-W-80,158), who became totally or partially separated from employment on or after May 3, 2010, through July 29, 2013, are eligible to apply for adjustment assistance under Section 223 of the Trade Act of 1974, and are also eligible to apply for alternative trade adjustment assistance under Section 246 of the Trade Act of 1974 as amended.

AND

All workers of Flextronics International USA, Inc., Infrastructure Division, Foothill Ranch, California (TA-W-80,158A), who became totally or partially separated from employment on or after May 3, 2010, through July 29, 2013, are eligible to apply for adjustment assistance under Section 223 of the Trade Act of 1974, as amended; and I further determine that all workers of Flextronics International USA, Inc., Infrastructure Division, Foothill Ranch, California (TA-W-80,158A), are denied eligibility to apply for alternative trade adjustment assistance under Section 246 of the Trade Act of 1974, as amended.

Signed at Washington, DC this 4th day of October, 2011.
Del Min Amy Chen,
Certifying Officer, Office of Trade Adjustment Assistance.

[FR Doc. 2011-27161 Filed 10-19-11; 8:45 am]

BILLING CODE 4510-FN-P